DEPARTMENT OF ENERGY

Federal Energy Regulatory Commission

[Docket No. CP25-5-000]

Columbia Gas Transmission, LLC; Notice of Schedule for the Preparation of an Environmental Assessment for the Line 4010 Abandonment Project

On October 10, 2024, Columbia Gas Transmission, LLC filed an application in Docket No. CP25-5-000 requesting authorization pursuant to section 7(b) of the Natural Gas Act to abandon certain natural gas pipeline facilities. The proposed project is known as the Line 4010 Abandonment Project (Project) and would abandon in place and by removal 13.2 miles of the Line 4010 pipeline and all related appurtenances in Jefferson and Clarion Counties, Pennsylvania.

On October 24, 2024, the Federal Energy Regulatory Commission (Commission or FERC) issued its Notice of Application and Establishing Intervention Deadline (Notice of Application) for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ In accordance with the Council on Environmental Quality's regulations, the unique identification number for documents relating to this environmental review is EAXX-019-20-000-1731407889. 40 CFR 1501.5(c)(4) (2024).

Schedule for Environmental Review

Issuance of EA—May 16, 2025

90-day Federal Authorization Decision Deadline ²—August 14, 2025

² The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Line 4010 Abandonment Project would abandon about 13.7 miles of 6-inch-diameter pipeline in Jefferson and Clarion Counties, Pennsylvania and abandon above ground facilities, including ten meter-stations, five mainline valves, and related appurtenances along Line 4010, also in Jefferson and Clarion Counties. The proposed Project would allow Columbia to comply with an order issued on April 22, 2022, by the United States Department of Transportation's Pipeline and Hazardous Materials Safety Administration (PHMSA) in response to an operating incident on Line 4010. Columbia determined that abandoning Line 4010 is the most prudent response given the pipeline's age, condition, and the PHMSA order.

Background

On November 19, 2024, the Commission issued a “Notice of Scoping Period Requesting Comments on Environmental Issues for the Proposed Line 4010 Abandonment Project and Notice of Public Scoping Session” (Notice of Scoping). The Notice of Scoping was sent to affected landowners; Federal, State, and local government agencies; elected officials; environmental and public interest groups; Native American tribes; other interested parties; and local libraries and newspapers. In response to the Notice of Scoping, the Commission received comments from U.S. Environmental Protection Agency, Region 3. Region 3 did not have any comments at this time regarding the Project. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-5), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 8, 2025.
Debbie-Anne A. Reese,
Secretary.

[FR Doc. 2025-00837 Filed 1-14-25; 8:45 am]

BILLING CODE 6717-01-P